NATIONAL FOUNDATION ON THE ARTS AND THE HUMANITIES

National Endowment for the Humanities

Meetings of Humanities Panel

AGENCY: National Endowment for the Humanities.

ACTION: Notice of Meetings.

SUMMARY: The National Endowment for the Humanities will hold six meetings of the Humanities Panel, a federal advisory committee, during December, 2015. The purpose of the meetings is for panel review, discussion, evaluation, and recommendation of applications for financial assistance under the National Foundation on the Arts and Humanities Act of 1965.

DATES: See SUPPLEMENTARY INFORMATION section for meeting dates.

ADDRESSES: The meetings will be held at Constitution Center at 400 7th Street SW., Washington, DC 20506. See Supplementary Information for meeting room numbers.

FOR FURTHER INFORMATION CONTACT: Lisette Voyatzis, Committee Management Officer, 400 7th Street SW., Room 4060, Washington, DC 20506; (202) 606-8322; evoyatzis@neh.gov. Hearing-impaired individuals who prefer to contact us by phone may use NEH's TDD terminal at (202) 606-8282.

SUPPLEMENTARY INFORMATION: Pursuant to section 10(a)(2) of the Federal Advisory Committee Act (5 U.S.C. App.), notice is hereby given of the following meetings:

1. Date: December 1, 2015

Time: 8:30 a.m. to 5:00 p.m.

Room: P002

This meeting will discuss applications on the subject of Historical Geography, for the Humanities Collections and Reference Resources grant program, submitted to the Division of Preservation and Access.

2. Date: December 3, 2015

Time: 8:30 a.m. to 5:00 p.m.

Room: 2002

This meeting will discuss applications on the subjects of Media Studies and Scholarly Communication (Level I), for Digital Humanities Start-Up Grants, submitted to the Office of Digital Humanities.

3. Date: December 4, 2015

Time: 8:30 a.m. to 5:00 p.m.

Room: 2002

This meeting will discuss applications on the subjects of Archives and Digital Collections II (Level I), for Digital Humanities Start-Up Grants, submitted to the Office of Digital Humanities.

4. Date: December 8, 2015

Time: 8:30 a.m. to 5:00 p.m.

Room: 4002

This meeting will discuss applications on the subjects of Languages and Linguistics (Level I and Level II), for Digital Humanities Start-Up Grants, submitted to the Office of Digital Humanities.

5. Date: December 9, 2015

Time: 8:30 a.m. to 5:00 p.m.

Room: 4002

This meeting will discuss applications on the subjects of Public Programs and Education (Level II), for Digital Humanities Start-Up Grants, submitted to the Office of Digital Humanities.

6. Date: December 14, 2015

Time: 8:30 a.m. to 5:00 p.m.

Room: 4002

This meeting will discuss applications for Fellowship Programs at Independent Research Institutions, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: November 12, 2015.
Elizabeth Voyatzis,
Committee Management Officer.

[FR Doc. 2015-29339 Filed 11-16-15; 8:45 am]

BILLING CODE 7536-01-P